DEPARTMENT OF TRANSPORTATION

Federal Transit Administration

49 CFR Part 604

[Docket No. FTA-2005-22657]

RIN 2132-AA85

Charter Service

AGENCY: Federal Transit Administration, DOT.

ACTION: Correcting amendments.

SUMMARY: The Federal Transit Administration published a document in the Federal Register on August 1, 2008, revising the appendices to the final rule and responding to petitions for reconsideration. That document inadvertently failed to update the table in Appendix D, which should have appeared in the rule as a matrix.

DATES: Effective Date: August 11, 2008.

FOR FURTHER INFORMATION CONTACT: Crystal Frederick, Ombudsman for Charter Services, Federal Transit Administration, 1200 New Jersey Ave., SE., Room E54-410, Washington, DC 20590, (202) 366-4063 or ombudsman.charterservice@dot.gov.

SUPPLEMENTARY INFORMATION: This is a second correction to the final rule published on January 14, 2008 (73 FR 2326). The first correction was published in the Federal Register on August 1, 2008 (73 FR 44927).

List of Subjects in 49 CFR Part 604

Charter Service.

Accordingly, 49 CFR part 604 is corrected by making the following correcting amendment:

1. The authority citation for part 604 continues to read as follows:

Authority: 49 U.S.C. 5323(d); § 3023(d), Public Law 109-59; 49 CFR 1.51.

2. Revise the table in appendix D to part 604 to read as follows:

Appendix D to Part 604—Table of Potential Remedies

Remedy Assessment Matrix:

* * * * *

Issued this 5th day of August 2008.
Severn E.S. Miller,
Chief Counsel.

[FR Doc. E8-18444 Filed 8-8-08; 8:45 am]

BILLING CODE 4910-57-C